TENNESSEE VALLEY AUTHORITY

Meeting of the Regional Energy Resource Council

AGENCY: Tennessee Valley Authority (TVA).

ACTION: Notice of meeting.

SUMMARY: The TVA Regional Energy Resource Council (RERC) will hold a meeting Wednesday, April 17, 2019, and Thursday, April 18, 2019, to discuss the draft results and associated documents relating to TVA's 2019 Integrated Resource Plan (IRP). The RERC was established to advise TVA on its energy resource activities and the priority to be placed among competing objectives and values. Notice of this meeting is given under the Federal Advisory Committee Act (FACA).

DATES: The public meeting will be held on Wednesday, April 17, 2019, from 1 p.m. to 4:30 p.m., EDT, and on Thursday, April 18, 2019, from 8:30 a.m. to 11:30 a.m., EDT.

ADDRESSES: The meeting will be held at the TVA Knoxville Office Complex, 400 West Summit Hill Drive, Knoxville, Tennessee 37902, and will be open to the public. Anyone needing special access or accommodations should let the contact below know at least a week in advance.

FOR FURTHER INFORMATION CONTACT: Liz Upchurch, 865-632-8305, efupchurch@tva.gov.

SUPPLEMENTARY INFORMATION:

The meeting agenda includes the following:

1. Introductions

2. Overview of the 2019 draft Integrated Resource Plan and draft Environmental Impact Statement

3. Recap of the public comment period and high level public comment themes

4. Information on the development of a final 2019 Integrated Resource Plan and final Environmental Impact Statement

5. Public Input Session

6. Council Discussion and Advice

The RERC will hear opinions and views of citizens during a public session starting at 3:30 p.m., EDT, lasting up to one hour, on Wednesday, April 17, 2019. Persons wishing to speak are requested to register at the door between 1 p.m. and 3:15 p.m., EDT, on Wednesday, April 17, 2019, and will be called on during the public session. For registered speakers, TVA will set time limits for providing oral comments. Handout materials should be limited to one printed page. Any member of the public is also permitted to leave a written statement with the Council after or in lieu of the member's oral presentation.

Dated: March 29, 2019.
Joseph J. Hoagland,
Vice President, Enterprise Relations and Innovation, Tennessee Valley Authority.

[FR Doc. 2019-06561 Filed 4-3-19; 8:45 am]

BILLING CODE 8120-08-P